DEPARTMENT OF THE INTERIOR

National Park Service

[NPS-WASO-NRNHL-22266; PPWOCRADI0, PCU00RP14.R50000]

National Register of Historic Places; Notification of Pending Nominations and Related Actions

AGENCY: National Park Service, Interior.

ACTION: Notice.

SUMMARY: The National Park Service is soliciting comments on the significance of properties nominated before October 22, 2016, for listing or related actions in the National Register of Historic Places.

DATES: Comments should be submitted by December 6, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 22, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Baldwin County

Swift—Coles House, 1 Swift Coles Ln., Bon Secour, 16000814

Mobile County

Isle Dauphine Club, 100 Orleans Dr., Dauphin Island, 16000815

GEORGIA

Fulton County

Medical Arts Building, 384 Peachtree St. NE., Atlanta, 16000816

MASSACHUSETTS

Worcester County

Fitchburg Yarn Mill, 1428 Main St., Fitchburg, 16000817

MICHIGAN

Cass County

Criffield—Whiteley House, 601 Main St., Doawgiac, 16000818

Presque Isle County

NORMAN (shipwreck), L. Huron, 10.35 mi. ESE. of Presque Isle Museum, Presque Isle Township, 16000819

NEW HAMPSHIRE

Rockingham County

Portsmouth Downtown Historic District, Multiple, Portsmouth, 16000820

NORTH DAKOTA

Cass County

Black Building, 114 Broadway N., Fargo, 16000821

OREGON

Malheur County

Vale Independent Order of Odd Fellows Hall, 122 Main St. S., Vale, 16000822

SOUTH DAKOTA

Butte County

Belle Fourche Band Shell, Hermann Park, Belle Fourche, 16000823

Clark County

Raymond Farmers and Citizens State Bank, 202 Flower St., Raymond, 16000824

Lake County

Herschell—Spillman Steam Riding Gallery, 45205 US 83, Madison, 16000825

Lincoln County

Canton Carnegie Library, 225 E. 4th St., Canton, 16000826

Meade County

Sturgis Water Works Company Supply Works Site, 2835 Davenport St., Sturgis, 16000827

Pennington County

Rapid City Masonic Temple, 618 Kansas City St., Rapid City, 16000828

WASHINGTON

King County

1926 Model Brick Home, 2600 E. Montlake Pl., Seattle, 16000829

Bon Marche Department Store, 300 Pine St., Seattle, 16000830

WISCONSIN

Dane County

Belleville Illinois Central Railroad Depot, 109 S. Park St., Belleville, 16000831

A request for removal has been received for the following resources:

NORTH DAKOTA

Cass County

Burlington Northern Depot, Woodard Ave., Amenia, 77001024

Emmons County

Goldade, Johannes, House, SE. of Linton off ND 13, Linton, 83001932

Authority: 60.13 of 36 CFR part 60.

Dated: October 25, 2016.
J. Paul Loether,
Chief, National Register of Historic Places/National Historic Landmarks Program.

[FR Doc. 2016-27902 Filed 11-18-16; 8:45 am]

BILLING CODE 4312-52-P